NATIONAL SCIENCE FOUNDATION

Sunshine Act Meetings

The National Science Board's Committee on Oversight hereby gives notice of the scheduling of a teleconference for the transaction of National Science Board business pursuant to the National Science Foundation Act and the Government in the Sunshine Act.

TIME AND DATE: Tuesday, February 22, 2022, from 3:00-4:00 p.m. EST.

PLACE: This meeting will be held by teleconference through the National Science Foundation.

STATUS: Open.

MATTERS TO BE CONSIDERED: The agenda of the teleconference is: Chair's opening remarks; approval of prior Committee minutes; discussion of requests for changes to Merit Review Digest; the Office of the Inspector General update; Chief Financial Officer update; report on pilots—Merit Review training and Broader Impacts expertise on Committees of Visitors.

CONTACT PERSON FOR MORE INFORMATION: Point of contact for this meeting is: Chris Blair, cblair@nsf.gov, 703/292-7000. The meeting may be viewed live at https://youtu.be/U-oAd7QUUXI. Meeting updates may be found at the National Science Board website at www.nsf.gov/nsb.

Chris Blair,
Executive Assistant to the National Science Board Office.

[FR Doc. 2022-03626 Filed 2-15-22; 4:15 pm]

BILLING CODE 7555-01-P